DEPARTMENT OF THE INTERIOR

Bureau of Land Management

[NV-050-5853-ES; N-80579]

Notice of Realty Action: Recreation and Public Purposes Act Classification of Public Lands in Clark County, NV

AGENCY: Bureau of Land Management, Interior.

ACTION: Notice.

SUMMARY: The Bureau of Land Management (BLM) has examined and found suitable for classification for lease and subsequent conveyance under the provisions of the Recreation and Public Purposes (R&PP) Act, as amended, approximately 10 acres of public land in Clark County, Nevada. The Crossroads Community Church proposes to use the land for a church and related facilities.

DATES: Interested parties may submit comments regarding the proposed lease/conveyance or classification of the lands until July 27, 2006.

ADDRESSES: Send written comments to the Field Manager, BLM Las Vegas Field Office, 4701 N. Torrey Pines Drive, Las Vegas, Nevada, 89130.

FOR FURTHER INFORMATION CONTACT: Sharon DiPinto, Assistant Field Manager, Bureau of Land Management, Las Vegas Field Office, at (702) 515-5062.

SUPPLEMENTARY INFORMATION: The following described public land in Clark County, Nevada, has been examined and found suitable for classification for lease and subsequent conveyance under the provisions of the Recreation and Public Purposes (R&PP) Act, as amended (43 U.S.C. 869 et seq.), and is hereby classified accordingly:

Mount Diablo Meridian, Nevada

T. 22 S., R. 61 E., Sec. 33: SE¼NE¼SE¼.

Containing 10 acres, more or less.

In accordance with the R&PP Act, the Crossroads Community Church filed an application for the above-described 10 acres of public land to be developed as a church and related facilities. These related facilities include a multipurpose building (a worship center, offices, classrooms, nursery, kitchen, restrooms, utility/storage rooms, and a lobby), sidewalks, landscaped areas, paved parking areas, daycare center, youth athletic fields, and off site improvements. Additional detailed information pertaining to this application, plan of development, and site plans is in case file N-80579 located in the BLM Las Vegas Field Office at the above address.

Churches are a common applicant under the “public purposes” provision of the R&PP Act. The Crossroads Community Church is an Internal Revenue Service registered non-profit organization and is, therefore, a qualified applicant under the R&PP Act.

The lease/conveyance is consistent with the Las Vegas Resource Management Plan dated October 5, 1998, and would be in the public interest. The lease/patent, when issued, will be subject to the provisions of the R&PP Act and applicable regulations of the Secretary of the Interior, and will contain the following reservations to the United States:

1. A right-of-way thereon for ditches or canals constructed by the authority of the United States, Act of August 30, 1890 (43 U.S.C. 945); and

2. All minerals together with the right to prospect for, mine, and remove such deposits from the same under applicable law and such regulations as the Secretary of the Interior may prescribe. The lease/patent will also be subject to:

1. An easement in favor of Clark County for roads, public utilities, and flood control purposes; and

2. All valid existing rights documented on the official public land records at the time of lease/patent issuance.

On June 12, 2006, the land described above will be segregated from all other forms of appropriation under the public land laws, including the general mining laws, except for lease/conveyance under the R&PP Act, leasing under the mineral leasing laws, and disposals under the mineral material disposal laws.

Comments

Classification Comments: Interested parties may submit comments involving the suitability of the land for a church and related facilities. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching its classification decision, or any other factor not directly related to the suitability of the land for R&PP use.

Any adverse comments will be reviewed by the State Director. In the absence of any adverse comments, the classification of the land described in this notice will become effective on August 11, 2006. The lands will not be available for lease/conveyance until after the classification becomes effective.

Authority: 43 CFR part 2740.

Sharon DiPinto,
Assistant Field Manager, Division of Lands, Las Vegas, NV.

[FR Doc. E6-9038 Filed 6-9-06; 8:45 am]

BILLING CODE 4310-HC-P